DEPARTMENT OF COMMERCE

International Trade Administration

Mission Statement

AGENCY: International Trade Administration, Department of Commerce.

ACTION: Notice.

Healthcare Technologies Trade Mission to Turkey, Jordan, and Egypt

October 24 to November 1, 2007

I. Mission Description

The United States Department of Commerce, International Trade Administration, U.S. Commercial Service, Office of Global Trade Programs, in conjunction with the Global Healthcare Team, will lead a healthcare technologies trade mission to Istanbul, Turkey; Amman, Jordan; and Cairo, Egypt from October 24 to November 1, 2007. This mission will allow representatives of U.S. medical equipment and healthcare technology firms interested in entering or expanding existing business in these markets. Companies can choose the stops they wish to visit. However, preference will be given to participants selecting two or more stops.

II. Mission Objective

This U.S. Department of Commerce trade mission is the ideal way for small and mid-sized companies to evaluate these markets and make important business contacts.

During the trade mission participants will receive:

(A) Briefings on local medical markets;

(B) Introductions to potential distributors, facility administrators, and purchasing managers through group events;

(C) Hospital and other site visits, if applicable;

(D) One-on-one meetings tailored to each firm's interests; and

(E) Meetings with local business representatives and government officials, as suitable.

The precise schedule will depend on the availability of local government and business officials, specific goals of mission participants, and air travel schedules.

Applications for this Mission are available, and may be obtained by contacting: Lisa Huot, USDOC/CS—Room 2118, 1401 Constitution Ave., NW., Washington, DC 20230. Tel: 202-482-2796; Fax 202-482-0115. E-mail: lisa.huot@mail.doc.gov.

Lisa Huot,
International Trade Specialist, Global Trade Programs.

[FR Doc. E7-4316 Filed 3-8-07; 8:45 am]

BILLING CODE 3510-25-P